DEPARTMENT OF JUSTICE

Federal Bureau of Investigation

[OMB Number: 1110-NEW]

Agency Information Collection Activities; Proposed eCollection, eComments Requested; Law Enforcement Public Contact Data Collection

AGENCY: Federal Bureau of Investigation, Department of Justice.

ACTION: 30-Day notice.

SUMMARY: The Department of Justice, Federal Bureau of Investigation, Criminal Justice Information Services Division, will be submitting the following information collection request to the Office of Management and Budget for review and approval in accordance with the Paperwork Reduction Act of 1995.

DATES: Comments are encouraged and will be accepted for 30 days until October 12, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility

—Evaluate the accuracy of the agency's estimate of the burden of the proposed collection of information, including the validity of the methodology and assumptions used

—Evaluate how the quality, utility, and clarity of the information to be collected can be enhanced

—Minimize the burden of the collection of information on those who are to respond, including through the use of appropriate automated, electronic, mechanical, or other technological collection techniques or other forms of information technology, e.g., permitting electronic submission of responses.

Overview of This Information Collection

1. Type of Information Collection: Establishment of a new collection.

2. The Title of the Form/Collection: Law Enforcement Public Contact Data Collection.

3. The agency form number, if any, and the applicable component of the Department sponsoring the collection: There is no form number for this collection. The applicable component within the Department of Justice is the Criminal Justice Information Services Division, Federal Bureau of Investigation.

4. Affected public who will be asked or required to respond, as well as a brief abstract:

Primary: Law enforcement agencies.

Abstract: This collection is needed to collect the number of contacts law enforcement officers have with the public in three major categories; citizen calls for service, unit/officer-initiated contacts, and court/bailiff activities.

5. An estimate of the total number of respondents and the amount of time estimated for an average respondent to respond: The Federal Bureau of Investigation Uniform Crime Reporting Program estimates the Law Enforcement Public Contact Collection will generate 18,671 responses per year with an estimated response time of 30 minutes per response.

6. An estimate of the total public burden (in hours) associated with the collection: There are approximately 9,335.5 hours, annual burden, associated with this information collection.

If additional information is required contact: Melody Braswell, Department Clearance Officer, United States Department of Justice, Justice Management Division, Policy and Planning Staff, Two Constitution Square, 145 N Street NE, 3E.405A, Washington, DC 20530.

Dated: September 2, 2021.
Melody Braswell,
Department Clearance Officer for PRA, U.S. Department of Justice.

[FR Doc. 2021-19425 Filed 9-8-21; 8:45 am]

BILLING CODE 4410-02-P